DEPARTMENT OF TRANSPORTATION

Federal Aviation Administration

14 CFR Part 39

[Docket No. 2002-NM-57-AD; Amendment 39-13390; AD 2003-25-07]

RIN 2120-AA64

Airworthiness Directives; Airbus Model A319 and A320 Series Airplanes Equipped With Elevator and Aileron Computer (ELAC) L80 Standard

AGENCY: Federal Aviation Administration, DOT.

ACTION: Final rule.

SUMMARY: This amendment supersedes an existing airworthiness directive (AD), applicable to certain Airbus Model A319 and A320 series airplanes, that currently requires revising the airplane flight manual to specify procedures for landing under certain conditions of gusty winds and turbulence. This amendment requires replacement of both Elevator and Aileron Computers (ELACs) having L80 standards with new ELACs having L81 standards, which terminates the requirements of the existing AD. The actions specified by this AD are intended to prevent activation of the high angle-of-attack protection during final approach for landing, which could result in loss of ability to flare properly during landings. This action is intended to address the identified unsafe condition.

DATES: Effective January 22, 2004.

The incorporation by reference of certain publications listed in the regulations is approved by the Director of the Federal Register as of January 22, 2004.

ADDRESSES: The service information referenced in this AD may be obtained from Airbus Industrie, 1 Rond Point Maurice Bellonte, 31707 Blagnac Cedex, France. This information may be examined at the Federal Aviation Administration (FAA), Transport Airplane Directorate, Rules Docket, 1601 Lind Avenue, SW., Renton, Washington; or at the Office of the Federal Register, 800 North Capitol Street, NW., suite 700, Washington, DC.

FOR FURTHER INFORMATION CONTACT: Tim Dulin, Aerospace Engineer, International Branch, ANM-116, FAA, Transport Airplane Directorate, 1601 Lind Avenue, SW., Renton, Washington 98055-4056; telephone (425) 227-2141; fax (425) 227-1149.

SUPPLEMENTARY INFORMATION: A proposal to amend part 39 of the Federal Aviation Regulations (14 CFR part 39) by superseding AD 2001-08-26, amendment 39-12203 (66 FR 20912, April 26, 2001), which is applicable to certain Airbus Model A319 and A320 series airplanes, was published in the Federal Register on September 18, 2003 (68 FR 54691). The action proposed to require revising the airplane flight manual to specify procedures for landing under certain conditions of gusty winds and turbulence. The action also proposed to require replacement of both Elevator and Aileron Computers (ELACs) having L80 standards with new ELACs having L81 standards, which would terminate the requirements of the existing AD.

Comments

Interested persons have been afforded an opportunity to participate in the making of this amendment. No comments were submitted in response to the proposal or the FAA's determination of the cost to the public.

Conclusion

The FAA has determined that air safety and the public interest require the adoption of the rule as proposed.

Cost Impact

There are approximately 350 airplanes of U.S. registry that will be affected by this AD.

The AFM revision currently required by AD 2001-08-26 takes approximately 1 work hour per airplane to accomplish, at an average labor rate of $65 per work hour. Based on these figures, the cost impact of the currently required actions on U.S. operators is estimated to be $22,750, or $65 per airplane.

The new replacement required in this AD action takes approximately 1 work hour per airplane to accomplish, at an average labor rate of $65 per work hour. Required parts will be provided by the manufacturer at no cost to operators. Based on these figures, the cost impact of the replacement on U.S. operators is estimated to be $22,750, or $65 per airplane.

The cost impact figures discussed above are based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing amendment 39-12203 (66 FR 20912, April 26, 2001), and by adding a new airworthiness directive (AD), amendment 39-13390, to read as follows:

2003-25-07 Airbus: Amendment 39-13390. Docket 2002-NM-57-AD. Supersedes AD 2001-08-26, Amendment 39-12203.

Applicability: Model A319 and A320 series airplanes; certificated in any category; equipped with Elevator and Aileron Computer (ELAC) L80 Standard having part numbers listed in Airbus Service Bulletin A320-27-1135, dated June 29, 2001.

Compliance: Required as indicated, unless accomplished previously.

To prevent activation of the high angle-of-attack protection during final approach for landing, which could result in loss of the ability to flare properly during landings, accomplish the following:

Restatement of Requirements of AD 2001-08-26

Revision of Airplane Flight Manual (AFM)

(a) Within 10 days after May 11, 2001 (the effective date of AD 2001-08-26, amendment 39-12203): Revise the Limitations Section of the AFM to incorporate the following procedures. This may be accomplished by inserting a copy of this AD into the AFM. This action is required until accomplishment of paragraph (b) of this AD.

“FOR APPROACH TO RUNWAYS WITH KNOWN GUSTY ENVIRONMENT, ESPECIALLY IF THESE CONDITIONS GENERATE VERTICAL GUSTS DUE TO THE SURROUNDING TERRAIN, OR

—REPORTED GUST WIND INCREMENT (MAX. WIND MINUS AVERAGE WIND) HIGHER THAN 10 KT, OR

—EXPECTED MODERATE TO SEVERE TURBULENCE ON SHORT FINAL,

THE FLIGHT CREW SHOULD STRICTLY ADHERE TO THE FOLLOWING PROCEDURE:

—USE CONF 3 FOR APPROACH AND LANDING,

—MINIMUM VAPP IS VLS + 10 KT; THE RECOMMENDATION TO USE MANAGED SPEED REMAINS VALID,

—CORRECT THE LANDING DISTANCE FOR THE SPEED INCREMENT,

—IF “SINK RATE” GPWS WARNING OCCURS BELOW 200 FT, IMMEDIATELY INITIATE A GO AROUND.”

New Requirements of This AD

Replacement

(b) Within 1 year after the effective date of this AD: Replace both Elevator and Aileron Computers (ELACs) having L80 standards with new ELACs having L81 standards, by doing all the actions per paragraphs A., B., C., and D. of the Accomplishment Instructions of Airbus Service Bulletin A320-27-1135, dated June 29, 2001. Accomplishment of this replacement ends the requirements in paragraph (a) of this AD.

Part Installation

(c) As of the effective date of this AD, no person may install on any airplane an ELAC having a part number listed in the “Old Part Number” column in the table specified in paragraph 2.C., “List of Components,” of Airbus Service Bulletin A320-27-1135, dated June 29, 2001.

Alternative Methods of Compliance

(d)(1) In accordance with 14 CFR 39.19, the Manager, International Branch, ANM-116, FAA, Transport Airplane Directorate, is authorized to approve alternative methods of compliance for this AD.

(2) Alternative methods of compliance, approved previously per AD 2001-08-26, amendment 39-12203, are approved as alternative methods of compliance with paragraph (a) of this AD.

Incorporation by Reference

(e) Unless otherwise provided in this AD, the actions shall be done in accordance with Airbus Service Bulletin A320-27-1135, dated June 29, 2001. This incorporation by reference was approved by the Director of the Federal Register in accordance with 5 U.S.C. 552(a) and 1 CFR part 51. Copies may be obtained from Airbus Industrie, 1 Rond Point Maurice Bellonte, 31707 Blagnac Cedex, France. Copies may be inspected at the FAA, Transport Airplane Directorate, 1601 Lind Avenue, SW., Renton, Washington; or at the Office of the Federal Register, 800 North Capitol Street, NW., suite 700, Washington, DC.

Note 1: The subject of this AD is addressed in French airworthiness directive 2001-508(B), dated October 17, 2001.

Effective Date

(f) This amendment becomes effective on January 22, 2004.

Issued in Renton, Washington, on December 5, 2003.
Kalene C. Yanamura,
Acting Manager, Transport Airplane Directorate, Aircraft Certification Service.

[FR Doc. 03-31060 Filed 12-17-03; 8:45 am]

BILLING CODE 4910-13-P